DEPARTMENT OF TRANSPORTATION

Federal Aviation Administration

Eighty-Seventh: RTCA Special Committee 159: Global Positioning System (GPS)

AGENCY: Federal Aviation Administration (FAA), U.S. Department of Transportation (DOT).

ACTION: Notice of RTCA Special Committee 159 meeting: Global Positioning System (GPS).

SUMMARY: The FAA is issuing this notice to advise the public of a meeting of RTCA Special Committee 159: Global Positioning System (GPS) 87th meeting.

DATES: The meeting will be held November 14-18, 2011, from 9 a.m. to 4:30 p.m.

ADDRESSES: The meeting will be held at RTCA, Inc., 1150 18th Street, NW., Suite 910, Washington, DC 20036.

FOR FURTHER INFORMATION CONTACT: The RTCA Secretariat, 1150 18th Street, NW., Suite 910, Washington, DC 20036, or by telephone at (202) 833-9339, fax at (202) 833-9434, or Web site at http://www.rtca.org.

SUPPLEMENTARY INFORMATION: Pursuant to section 10(a)(2) of the Federal Advisory Committee Act (Pub. L. No. 92-463, 5 U.S.C., App.), notice is hereby given for a Special Committee 159, Global Positioning System (GPS). The agenda will include the following:

November 14-17, 2011

• Working Group Sessions

• November 14—Working Group 2C, GPS/Inertial

• November 15—Working Group 2, GPS/WAAS

• November 16—Working Group 2, GPS WAAS and Working Group 4, Precision Landing Guidance (GPS/LAAS)

• November 17—Working Group 4, Precision Landing Guidance (GPS/LAAS)

November 18, 2011

• Plenary Session

• Chairman's Introductory Remarks

• Approval of Summary of the 86th Meeting held June 17th, 2011, RTCA Paper No. 202-11/SC159-997

• Review Working Group (WG) Progress and Identify Issues for Resolution

• GPS/3nd Civil Frequency (WG-1)

• GPS/WAAS (WG-2)

• GPS/GLONASS (WG-2A)

• GPS/Inertial (WG-2C)

• GPS/Precision Landing Guidance (WG-4)

• GPS/Airport Surface Surveillance (WG-5)

• GPS/Interference (WG-6)

• GPS/Antennas (WG-7)

• Review of EUROCAE Activities

• SC-159 Ad Hoc—Discussion—Matrix Report

• Assignment/Review of Future Work

• Other Business

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 24, 2011.
Robert L. Bostiga,
Manager, RTCA Advisory Committee.

[FR Doc. 2011-27923 Filed 10-27-11; 8:45 am]

BILLING CODE 4910-13-P